DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Online Application Order Form for Products from the Healthcare Cost and Utilization Project (HCUP).” This proposed information collection was previously published in the Federal Register on January 3rd, 2021 and allowed 60 days for public comment. During the 60 days, no substantive comments from members of the public were received by AHRQ. The purpose of this notice is to allow an additional 30 days for public comment.

DATES: Comments on this notice must be received by April 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Doris Lefkowitz, AHRQ Reports Clearance Officer, (301) 427-1477, or by email at doris.lefkowitz@AHRQ.hhs.gov.

SUPPLEMENTARY INFORMATION:

Proposed Project

Online Application Order Form for Products From the Healthcare Cost and Utilization Project (HCUP)

The Healthcare Cost and Utilization Project (HCUP, pronounced “H-Cup”) is a vital resource helping the Agency achieve its research agenda, thereby furthering its goal of improving the delivery of health care in the United States. HCUP is a family of health care databases and related software tools and products developed through a Federal-State-Industry partnership and sponsored by AHRQ. HCUP includes the largest collection of longitudinal hospital care data in the United States, with all-payer, encounter-level information beginning in 1988. The HCUP databases are annual files that contain anonymous information from hospital discharge records for inpatient care and certain components of outpatient care, such as emergency care and ambulatory surgeries. The project currently releases eight types of databases created for research use on a broad range of health issues, including cost and quality of health services, medical practice patterns, access to health care programs, and outcomes of treatments at the national, State, and local market levels. HCUP also produces a large number of software tools to enhance the use of administrative health care data for research and public health use. Software tools use information available from a variety of sources to create new data elements, often through sophisticated algorithms, for use with the HCUP databases.

HCUP's objectives are to:

• Create and enhance a powerful source of national, state, and all-payer health care data.

• Produce a broad set of software tools and products to facilitate the use of HCUP and other administrative data.

• Enrich a collaborative partnership with statewide data organizations (that voluntarily participate in the project) aimed at increasing the quality and use of health care data.

• Conduct and translate research to inform decision making and improve health care delivery.

This project is being conducted by AHRQ through its primary contractor and subcontractor, IBM Watson Health and Pantheon Software, pursuant to AHRQ's statutory authority to conduct and support research on healthcare and on systems for the delivery of such care, including activities with respect to the outcomes, cost, cost-effectiveness, and use of health care services and access to such services. 42 U.S.C. 299a(a)(3).

Method of Collection

The project currently creates eight types of restricted access public release databases and related files that are released to authorized users under the terms of the HCUP Data Use Agreement (DUA). These HCUP databases and files are used by researchers for a broad range of health issues, including cost and quality of health services, medical practice patterns, access to health care programs, and outcomes of treatments at the national, State, and local market levels.

HCUP achieves the restricted access public release and tracking of the HCUP databases through the Online Application Form for HCUP Products (https://www.distributor.hcup-us.ahrq.gov/SpecialPages/Shoppingcart.aspx). To access the eight types of database, HCUP users are required to complete the Online Application Form for HCUP Products which includes three components, the application, HCUP DUA training (https://www.hcup-us.ahrq.gov/DUA/dua/index.html) and signing a HCUP DUA. Users are required to sign one of two DUAs: (1) Nationwide or (2) state (hereafter referred to collectively as the HCUP DUA) after they complete the HCUP DUA training.

Information collected in the HCUP Online Application Form process will be used for two purposes only:

1. Business Transaction: In order to deliver the HCUP databases to the applicants, contact information is necessary for shipping the data on disk (or any other media used in the future) and payment collection.

2. Enforcement of the HCUP Data Use Agreement (DUA): The HCUP DUA contains several restrictions on use of the data. Most of these restrictions have been put in place to safeguard the privacy of individuals and establishments represented in the data. For example, data users can only use the data for research, analysis, and aggregate statistical reporting and are prohibited from attempting to identify any persons in the data. Contact information on HCUP DUAs is retained in the event that a violation of the HCUP DUA takes place requiring legal remedy.

Estimated Annual Respondent Burden

Exhibit 1 shows the estimated annualized burden associated with the applicants' time to order any of the HCUP databases. An estimated 1,800 persons will order HCUP data annually. Each of these persons will complete Online Application Order Form for HCUP products (30 minutes). The total burden for the Online Application Order Form is estimated to be 900 hours annually. Exhibit 2 shows the estimated annualized cost burden associated with the applicants' time to order HCUP data. The total cost burden is estimated to be $39,879 annually.

Exhibit 1—Estimated Annualized Burden Hours
Form name | Number of respondents | Number of responses per respondent | Hours per response | Total burden hours
Total for the HCUP Data Purchase Ordering Form | 1,800 | 1 | 30/60 | 900

Exhibit 2—Estimated Annualized Cost Burden
| Number of respondents | Total burden hours | Average hourly wage rate * | Total cost burden
Total | 1,800 | 900 | $44.31 | $39,879
* Based upon the mean of the average wages for Life Scientists, All Other (19-1099), National Compensation Survey:Occupational Employment Statistics, May 2020 National Occupational Employment and Wage Estimates United States, U.S. Department of Labor, Bureau of Labor Statistics. https://www.bls.gov/oes/current/oes_nat.htm#19-0000.

Request for Comments

In accordance with the Paperwork Reduction Act, 44 U.S.C. 3501-3520, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 7, 2022.
Marquita Cullom,
Associate Director.

[FR Doc. 2022-05122 Filed 3-9-22; 8:45 am]

BILLING CODE 4160-90-P